SMALL BUSINESS ADMINISTRATION

[Disaster Declaration #10299 and #10300]

Connecticut Disaster Number CT-00002

AGENCY: Small Business Administration.

ACTION: Amendment 1.

SUMMARY: This is an amendment of the Administrative declaration of a major disaster for the State of Connecticut, dated 12/21/2005.

Incident: Severe Flooding.

Incident Period: 10/14/2005 through 10/15/2005.

Effective Date: 02/13/2006.

Physical Loan Application Deadline Date: 03/23/2006.

EIDL Loan Application Deadline Date: 09/21/2006.

ADDRESSES: Submit completed loan applications to: U.S. Small Business Administration, National Processing And Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of an Administrative declaration for the State of Connecticut, dated 12/21/2005, is hereby amended to extend the deadline for filing applications for physical damages as a result of this disaster to 03/23/2006.

All other information in the original declaration remains unchanged.

(Catalog of Federal Domestic Assistance Numbers 59002 and 59008)

Dated: February 13, 2006.
Hector V. Barreto,
Administrator.

[FR Doc. E6-2536 Filed 2-22-06; 8:45 am]

BILLING CODE 8025-01-P